DEPARTMENT OF COMMERCE

National Oceanic and Atmospheric Administration

[RTID 0648-XA064]

Mid-Atlantic Fishery Management Council; Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Advisory Panel will hold a public webinar meeting, jointly with the Atlantic States Marine Fisheries Commission's Summer Flounder, Scup, and Black Sea Bass Advisory Panel.

DATES: The meeting will be held on Thursday, April 2, 2020, from 9 a.m. until 11 a.m.

ADDRESSES: The meeting will be held via webinar, which can be accessed at: https://global.gotomeeting.com/join/257260653. Meeting audio can be accessed via telephone by dialing 1-888-585-9008 and entering room number 705-426-714.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Summer Flounder, Scup, and Black Sea Bass Advisory Panel will meet via webinar jointly with the Atlantic States Marine Fisheries Commission's Summer Flounder, Scup, and Black Sea Bass Advisory Panel. Both groups will discuss an ongoing fishery management plan amendment to consider modifications to the allocations of catch or landings between the commercial and recreational sectors for the summer flounder, scup, and black sea bass fisheries The purpose of this meeting is to review public comments received through the scoping period for this amendment and to provide feedback on the range of issues and management approaches that may be considered through the amendment. More information on the amendment is available at: http://www.mafmc.org/actions/sfsbsb-allocation-amendment.

Special Accommodations

The meeting is physically accessible to people with disabilities. Requests for sign language interpretation or other auxiliary aid should be directed to M. Jan Saunders, (302) 526-5251, at least 5 days prior to the meeting date.

Authority: 16 U.S.C. 1801 et seq.

Dated: March 3, 2020.
Tracey L. Thompson,
Acting Deputy Director, Office of Sustainable Fisheries, National Marine Fisheries Service.

[FR Doc. 2020-04643 Filed 3-5-20; 8:45 am]

BILLING CODE 3510-22-P